DEPARTMENT OF COMMERCE

National Oceanic and Atmospheric Administration

RIN 0648-XR52

Marine Mammals; File No. 14534

AGENCY: National Marine Fisheries Service (NMFS), National Oceanic and Atmospheric Administration (NOAA), Commerce.

ACTION: Notice; issuance of permit amendment.

SUMMARY: Notice is hereby given that a major amendment to Permit No. 14534-01 has been issued to NOAA's Office of Science and Technology, Silver Spring, MD, (Brandon Southall, Ph.D.—Principal Investigator) for research on marine mammals.

ADDRESSES: The permit amendment and related documents are available for review upon written request or by appointment in the following offices:

Permits and Conservation Division, Office of Protected Resources, NMFS, 1315 East-West Highway, Room 13705, Silver Spring, MD 20910; phone (301)427-8401; fax (301)713-0376; and

Southwest Region, NMFS, 501 West Ocean Blvd., Suite 4200, Long Beach, CA 90802-4213; phone (562)980-4001; fax (562)980-4018.

FOR FURTHER INFORMATION CONTACT: Tammy Adams or Carrie Hubard, (301)427-8401.

SUPPLEMENTARY INFORMATION: On December 9, 2011, notice was published in the Federal Register (76 FR 76949) that the above-named applicant submitted a request for an amendment to Permit No. 14534-01 to conduct research on humpback whales (Megaptera novaengliae), minke whales (Balaenoptera acutorostrata), and killer whales (Orcinus orca). The requested permit amendment has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The amendment increases the take numbers for these three cetacean species, making them focal species under the permit, subject to tagging and intentional exposure to sound playbacks with associated behavioral observations. The location of the research is unchanged and remains focused in the waters within the U.S. Navy's Southern California Range Complex, and primarily near the vicinity of San Clemente Island. The amendment is valid through the original expiration date of the permit, July 31, 2015.

An environmental assessment (EA) analyzing the effects of the permitted activities on the human environment was prepared in compliance with the National Environmental Policy Act of 1969 (42 U.S.C. 4321 et seq.). Based on the analyses in the EA, NMFS determined that issuance of the permit would not significantly impact the quality of the human environment and that preparation of an environmental impact statement was not required. That determination is documented in a Finding of No Significant Impact (FONSI), signed on May 14, 2012.

As required by the ESA, issuance of this permit was based on a finding that such permit: (1) Was applied for in good faith; (2) will not operate to the disadvantage of such endangered species; and (3) is consistent with the purposes and policies set forth in section 2 of the ESA.

Dated: May 30, 2012.
Tammy C. Adams,
Acting Chief, Permits and Conservation Division, Office of Protected Resources, National Marine Fisheries Service.

[FR Doc. 2012-13572 Filed 6-4-12; 8:45 am]

BILLING CODE 3510-22-P